DEPARTMENT OF TRANSPORTATION

Federal Aviation Administration

14 CFR Part 39

[Docket No. FAA-2005-21715; Directorate Identifier 2004-NM-277-AD]

RIN 2120-AA64

Airworthiness Directives; Boeing Model 767-200 and -300 Series Airplanes

AGENCY: Federal Aviation Administration (FAA), Department of Transportation (DOT).

ACTION: Notice of proposed rulemaking (NPRM).

SUMMARY: The FAA proposes to adopt a new airworthiness directive (AD) for certain Boeing Model 767-200 and -300 series airplanes. This proposed AD would require measuring the turnbuckle gap of the inflation cylinder of the off-wing emergency escape slide; corrective action if necessary; and installing a safety device on the inflation cylinder of the off-wing emergency escape slide. This proposed AD is prompted by a report indicating that the inflation trigger cable may inadvertently disconnect from the inflation turnbuckle of the inflation cylinder of the off-wing emergency escape slide, due to incorrect spacing of the cable insertion gap; and additional reports indicating that the pull force increase mechanism on the off-wing charged cylinder assemblies of the escape slide may be inadvertently disengaged. We are proposing this AD to prevent failed deployment of the emergency escape slide during an emergency, which could impede an evacuation and result in injury to passengers or airplane crewmembers, or inadvertent inflation and loss of an emergency escape slide during flight, which could result in possible structural damage to the airplane.

DATES: We must receive comments on this proposed AD by August 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, PO Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-21715; the directorate identifier for this docket is 2004-NM-277-AD.

FOR FURTHER INFORMATION CONTACT: Sue Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION:

Comments Invited

We invite you to submit any relevant written data, views, or arguments regarding this proposed AD. Send your comments to an address listed under ADDRESSES. Include “Docket No. FAA-2005-21715; Directorate Identifier 2004-NM-277-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that, during a pre-delivery slide deployment check, the inflation trigger cable inadvertently disconnected from the inflation trigger turnbuckle of the inflation cylinder of the off-wing emergency escape slide on a Boeing Model 767-300 series airplane. Further investigation revealed that the cable insertion gap in the turnbuckle (referred to as the “turnbuckle gap”) of certain inflation cylinders was not crimped per the engineering drawing specification. The gap measured approximately 0.070-inch, instead of the 0.040-inch maximum allowable spacing.

We also received reports that operators have found the pull force increase mechanism (PFIM) on the inflation cylinder of the off-wing emergency escape slide incorrectly set to the “DISENGAGED” position on Boeing Model 767-200 and -300 series airplanes. If the PFIM retainer spring is not positioned in the “ENGAGED” position, airframe flexing could result in inadvertent actuation of the inflation cylinder and subsequent inflation of the off-wing emergency escape slide.

These conditions, if not corrected, could result in failed deployment of the emergency escape slide during an emergency, which could impede an evacuation and result in injury to passengers or airplane crewmembers, or inadvertent inflation and loss of an emergency escape slide during flight, which could result in possible structural damage to the airplane.

Relevant Service Information

We have reviewed Boeing Special Attention Service Bulletin 767-25-0358, dated September 18, 2003. The service bulletin describes procedures for measuring the turnbuckle gap on the inflation cylinder of the off-wing emergency escape slides (to ensure it meets the maximum allowable spacing limit), and performing corrective actions if necessary. The corrective actions include crimping the gap to the correct spacing, making sure the turnbuckle can rotate around the cable; and replacing the adjustable bottle cable assembly with a new assembly if the turnbuckle cannot rotate.

Special Attention Service Bulletin 767-25-0358 refers to Goodrich Service Bulletin 130104-25-342, dated July 23, 2003, as an additional source of service information.

We have also reviewed Boeing Special Attention Service Bulletin 767-25-0317, dated June 27, 2002. The service bulletin describes procedures for installing a safety device on the PFIM of the inflation cylinder of the off-wing emergency escape slide system and part-marking the inflation cylinder if applicable.

Special Attention Service Bulletin 767-25-0317 refers to Goodrich Service Bulletin 130104-25-328, Revision 1, dated July 23, 2003, as an additional source of service information.

Accomplishing the actions specified in the Boeing service information is intended to adequately address the unsafe condition.

FAA's Determination and Requirements of the Proposed AD

We have evaluated all pertinent information and identified an unsafe condition that is likely to exist or develop on other airplanes of this same type design. Therefore, we are proposing this AD, which would require accomplishing the actions specified in the Boeing service information described previously, except as discussed under “Difference Between the Proposed AD and Boeing Service Information.”

Difference Between the Proposed AD and Boeing Service Information

The service bulletins recommend that the actions therein be accomplished “at the next normally scheduled maintenance period when manpower, materials, and facilities are available.” We find that such a non-specific compliance time may not ensure that the proposed actions are accomplished in a timely manner. In developing an appropriate compliance time for these actions, we considered the safety implications, operators' normal maintenance schedules, and the compliance time recommended by the airplane manufacturer. In consideration of these items, we have determined that 18 months represents an appropriate interval of time wherein the proposed actions can be accomplished during scheduled maintenance intervals for the majority of affected operators, and an acceptable level of safety can be maintained. This compliance time is consistent with the recommendation of the airplane manufacturer.

Clarification of “Concurrent” Service Information

The Boeing service bulletins specify concurrent accomplishment of the Goodrich service bulletins; however, this proposed AD refers to the Goodrich service bulletins as additional sources of service information.

Costs of Compliance

There are about 696 airplanes of the affected design in the worldwide fleet. This proposed AD would affect about 297 airplanes of U.S. registry.

The proposed inspection would take about 1 work hour per airplane, at an average labor rate of $65 per work hour. Based on these figures, the estimated cost of the proposed inspection for U.S. operators is $19,305, or $65 per airplane.

The proposed safety device installation would take about 3 work hours per airplane, at an average labor rate of $65 per work hour. Required parts cost would be minimal. Based on these figures, the estimated cost of the proposed installation for U.S. operators is $57,915, or $195 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-21715; Directorate Identifier 2004-NM-277-AD.

Comments Due Date

(a) The Federal Aviation Administration (FAA) must receive comments on this AD action by August 22, 2005.

Affected ADs

(b) None.

Applicability

(c) This AD applies to Boeing Model 767-200 and -300 series airplanes; certificated in any category; equipped with off-wing emergency escape slides; as identified in Boeing Special Attention Service Bulletin 767-25-0358, dated September 18, 2003; and Boeing Special Attention Service Bulletin 767-25-0317, dated June 27, 2002.

Unsafe Condition

(d) This AD was prompted by a report indicating that the inflation trigger cable may inadvertently disconnect from the inflation turnbuckle of the inflation cylinder of the off-wing emergency escape slide, due to incorrect spacing of the cable insertion gap; and additional reports indicating that the pull force increase mechanism (PFIM) on the off-wing charged cylinder assemblies of the escape slide may be inadvertently disengaged. We are issuing this AD to prevent failed deployment of the emergency escape slide during an emergency, which could impede an evacuation and result in injury to passengers or airplane crewmembers, or inadvertent inflation and loss of an emergency escape slide during flight, which could result in possible structural damage to the airplane.

Compliance

(e) You are responsible for having the actions required by this AD performed within the compliance times specified, unless the actions have already been done.

Measurement/Corrective Action

(f) Within 18 months after the effective date of this AD: Accomplish the actions specified in paragraphs (f)(1) and (f)(2) of this AD.

(1) Measure the turnbuckle gap of the inflation cylinder of the off-wing emergency escape slides to ensure it meets the maximum allowable spacing limit and do applicable corrective actions by doing all the actions specified in the Accomplishment Instructions of Boeing Special Attention Service Bulletin 767-25-0358, dated September 18, 2003. Accomplish any corrective action before further flight in accordance with the service bulletin.

(2) Install a safety device on the PFIM of the inflation cylinder of the off-wing emergency escape slides, and part-mark the inflation cylinder as applicable, by doing all the actions specified in the Accomplishment Instructions of Boeing Special Attention Service Bulletin 767-25-0317, dated June 27, 2002.

Note 1: Goodrich Service Bulletins 130104-25-342, dated July 23, 2003; and 130104-25-328, Revision 1, dated July 23, 2003; may be used as additional sources of service information for accomplishing the actions.

Parts Installation

(g) As of the effective date of this AD, no person may install an inflation cylinder of the off-wing emergency escape slides on any airplane, unless it has been modified according to paragraph (f) of this AD.

Alternative Methods of Compliance (AMOCs)

(h) The Manager, Seattle Aircraft Certification Office, FAA, has the authority to approve AMOCs for this AD, if requested in accordance with the procedures found in 14 CFR 39.19.

Issued in Renton, Washington, on June 24, 2005.
Michael J. Kaszycki,
Acting Manager, Transport Airplane Directorate, Aircraft Certification Service.

[FR Doc. 05-13222 Filed 7-5-05; 8:45 am]

BILLING CODE 4910-13-P